DEPARTMENT OF THE INTERIOR

Bureau of Land Management

[LLCAD08000 L12200000.EA0000 241A; ]

Notice of Temporary Closures of Public Lands for the King of the Hammers Race in San Bernardino County, CA

AGENCY: Bureau of Land Management, Interior.

ACTION: Notice.

SUMMARY: As authorized under the provisions of the Federal Land Policy and Management Act of 1976, the Bureau of Land Management (BLM) is giving notice that certain public lands near Twentynine Palms, California, will be temporarily closed to all public use to provide for public safety during the 2016 King of the Hammers Race Event.

DATES: Closure periods to all public use are January 31, 2016, through February 6, 2016.

FOR FURTHER INFORMATION CONTACT: Brian Bellew, (916) 978-4653, email: bbellew@blm.gov.

SUPPLEMENTARY INFORMATION: This closure applies to all public use, including pedestrian use and vehicles. The public lands affected by this closure are described as follows:

Land Description

San Bernardino Meridian

T. 5 N., R. 2 E.,

Secs. 1, 2, 11, 12, and 13.

T. 6 N., R. 2 E.,

Secs. 1, 12, 13, 14, 23 through 27, 34, and 35.

T. 4 N., R. 3 E.,

Sec. 1, lot 1 in NE¼, lot 2 in NE¼, lot 1 in NW¼, lot 2 in NW¼, NW¼SW¼, and SE¼;

Sec. 2;

Sec. 12, N½ and SE¼.

T. 5 N., R. 3 E.,

Secs. 5 and 6;

Sec. 7, unsurveyed;

Sec. 8, E½ and W½, unsurveyed;

Secs. 13 and 14;

Sec. 17, NE¼, W½, unsurveyed, and SE¼, unsurveyed;

Secs. 18, 19, and 20;

Sec. 21, E½ and W½, unsurveyed;

Secs. 22 through 28;

Sec. 29, NE¼, W½, unsurveyed, and SE¼, unsurveyed;

Sec. 34, E½, unsurveyed and W½;

Sec. 35, NE¼, W½, unsurveyed, and SE¼, unsurveyed;

Sec. 36, SW¼, unsurveyed.

T. 6 N., R. 3 E.,

Secs. 5 through 8, 17 through 20, 29, and 30.

T. 7 N., R. 3 E.,

Secs. 30 and 31;

Sec. 32, except that portion within MS 6715;

Sec. 33.

T. 4 N., R. 4 E.,

Secs. 1 through 11, 15, and 17;

Sec. 18, lot 1 in NW¼, lot 2 in NW¼, and NE¼;

Sec. 20, lots 1 through 8;

Secs. 21 through 24, 26, 27, and 28.

T. 5 N., R. 4 E.,

Secs. 18, 19, and 29 through 32.

T. 4 N., R. 5 E.,

Secs. 2 through 6, 8 and 9;

Sec. 10, unsurveyed;

Secs. 11 and 12;

Secs. 13, 14, and 15, all unsurveyed;

Sec. 16;

Secs. 17, 20 through 24, 26 through 29, and 32 through 35, all unsurveyed.

T. 5 N., R. 5 E.,

Secs. 32 and 34.

The area described aggregates 71,065 acres, more or less, in San Bernardino County, California.

The closure notice and a map of the closure area will be posted at the Barstow Field Office and on the BLM Web site: http://www.blm.gov/ca/st/en/fo/barstow_field.html. Roads leading into the public lands under closure will be posted to notify the public of the closure.

Exceptions: Closure restrictions do not apply to event officials, event participants, registered spectators, medical and rescue personnel, law enforcement, and agency personnel monitoring the events.

Enforcement: Any person who violates this closure may be tried before a United States Magistrate and fined in accordance with 18 U.S.C. 3571 and imprisoned for no more than 12 months under 43 U.S.C. 1733(a) and 43 CFR 8360.0-7, or both. In accordance with 43 CFR 8365.1-7, State or local officials may also impose penalties for violations of California law.

Authority: 43 CFR 8360.0-7 and 8364.1

Thomas Pogacnik,
Deputy State Director for Resources.

[FR Doc. 2016-00303 Filed 1-8-16; 8:45 am]

BILLING CODE 4310-40-P